DEPARTMENT OF HEALTH AND HUMAN SERVICES

Determination Concerning a Petition to Add a Class of Employees to the Special Exposure Cohort

AGENCY: National Institute for Occupational Safety and Health (NIOSH), Centers for Disease Control and Prevention, Department of Health and Human Services (HHS).

ACTION: Notice.

SUMMARY: HHS gives notice of a determination concerning a petition to add a class of employees from Baker Brothers, in Toledo, Ohio, to the Special Exposure Cohort (SEC) under the Energy Employees Occupational Illness Compensation Program Act of 2000 (EEOICPA). On September 30, 2013, the Secretary of HHS determined that the following class of employees does not meet the statutory criteria for addition to the SEC as authorized under EEOICPA:

All Atomic Weapons Employees and Department of Energy employees, contractors and subcontractors who worked at the Baker Brothers site in Toledo, Ohio, during the applicable covered residual radiation and remediation period from January 1, 1945, through December 31, 1996.

FOR FURTHER INFORMATION CONTACT: Stuart L. Hinnefeld, Director, Division of Compensation Analysis and Support, National Institute for Occupational Safety and Health (NIOSH), 4676 Columbia Parkway, MS C-46, Cincinnati, OH 45226, Telephone 1-877-222-7570. Information requests can also be submitted by email to DCAS@CDC.GOV.

SUPPLEMENTARY INFORMATION:

Authority: 42 U.S.C. 7384q.

John Howard
Director, National Institute for Occupational Safety and Health.

[FR Doc. 2013-25508 Filed 10-28-13; 8:45 am]

BILLING CODE 4163-19-P